SOCIAL SECURITY ADMINISTRATION

Privacy Act of 1974, as Amended; Computer Matching Program; (SSA/Centers for Medicare and Medicaid Services (CMS) Match Number 1076)

AGENCY: Social Security Administration (SSA).

ACTION: Notice of renewal of an existing computer matching program which is scheduled to expire on September 24, 2003.

SUMMARY: In accordance with the provisions of the Privacy Act, as amended, this notice announces the renewal of an existing computer matching program that SSA is currently conducting with CMS.

DATES: SSA will file a report of the subject matching program with the Committee on Governmental Affairs of the Senate, the Committee on Government Reform of the House of Representatives and Office of Information and Regulatory Affairs, Office of Management and Budget (OMB). The renewal of the matching program will be effective as indicated below.

ADDRESSES: Interested parties may comment on this notice by either telefax to (410) 965-8582 or writing to the Associate Commissioner for Income Security Programs, 245 Altmeyer Building, 6401 Security Boulevard, Baltimore, MD 21235-6401. All comments received will be available for public inspection at this address.

FOR FURTHER INFORMATION CONTACT: The Associate Commissioner for Income Security Programs as shown above.

SUPPLEMENTARY INFORMATION:

A. General

The Computer Matching and Privacy Protection Act of 1988 (Public Law (Pub. L.) 100-503) amended the Privacy Act (5 U.S.C. 552a) by establishing the conditions under which computer matching involving the Federal Government could be performed and adding certain protections for individuals applying for and receiving Federal benefits. Section 7201 of the Omnibus Budget Reconciliation Act of 1990 (Pub. L. 101-508) further amended the Privacy Act regarding protections for such individuals.

The Privacy Act, as amended, regulates the use of computer matching by Federal agencies when records in a system of records are matched with other Federal, State, or local government records. It requires Federal agencies involved in computer matching programs to:

(1) Negotiate written agreements with the other agency or agencies participating in the matching programs;

(2) Obtain the Data Integrity Boards’ approval of the match agreements;

(3) Publish notice of the computer matching program in the Federal Register;

(4) Furnish detailed reports about matching programs to Congress and OMB;

(5) Notify applicants and beneficiaries that their records are subject to matching; and

(6) Verify match findings before reducing, suspending, terminating, or denying an individual's benefits or payments.

B. SSA Computer Matches Subject to the Privacy Act

We have taken action to ensure that all of SSA's computer matching programs comply with the requirements of the Privacy Act, as amended.

Dated: September 10, 2003.
Martin H. Gerry,
Deputy Commissioner for Disability and Income Security Programs.

Notice of Computer Matching Program, Social Security Administration (SSA) With the Centers for Medicare and Medicaid Services (CMS)

A. Participating Agencies

SSA and CMS.

B. Purpose of the Matching Program

The purpose of this matching program is to identify Supplemental Security Income (SSI) recipients and Special Veterans’ Benefits (SVB) beneficiaries who have been admitted to certain public institutions. The program will thereby facilitate benefit reductions required under certain provisions of title XVI of the Social Security Act (Act) for individuals in such institutions and benefit terminations required under certain provisions of title VIII of the Act for individuals no longer residing outside the United States.

C. Authority for Conducting the Matching Program

Sections 1611(e)(1)(A) and (B), 1631(f), 801 and 806(a) and (b) of the Social Security Act (42 U.S.C. 1382(e)(1)(A) and (B), 1383(f), 1001 and 1006(a) and (b)); 20 CFR 416.211. Routine Use Number 19, effective 1/6/95, allows disclosure to Federal, State or local agencies for administering cash or noncash income maintenance or health maintenance programs.

D. Categories of Records and Individuals Covered by the Matching Program

On the basis of certain identifying information regarding SSI and SVB applicants, recipients and beneficiaries as provided by SSA to CMS, CMS will provide SSA with electronic files containing skilled nursing facility admission and billing data from its Long-Term Care Minimum Data Set, LTC/MDS 09-70-1516, system of records. SSA will then match the CMS data with SSI and SVB payment information maintained in the Supplemental Security Income Record, SSA/OEEAS 60-0103, system of records.

E. Inclusive Dates of the Matching Program

The matching program shall become effective no sooner than 40 days after notice for the program is sent to Congress and OMB, or 30 days after publication of this notice in the Federal Register, whichever date is later. The matching program will continue for 18 months from the effective date and may be extended for an additional 12 months thereafter, if certain conditions are met.

[FR Doc. 03-23630 Filed 9-16-03; 8:45 am]

BILLING CODE 4191-02-P